U.S. DEPARTMENT OF COMMERCE

Foreign-Trade Zones Board

[Order No. 1629]

Approval for Manufacturing Authority, Foreign-Trade Zone 106, Industrial Gasket, Inc. d/b/a International Group (Metal Fabrication), Mustang, Oklahoma

Pursuant to its authority under the Foreign-Trade Zones Act of June 18, 1934, as amended (19 U.S.C. 81a-81u), the Foreign-Trade Zones Board (the Board) adopts the following Order:

Whereas, the Port Authority of the Greater Oklahoma City Area, grantee of Foreign-Trade Zone 106, has requested manufacturing authority on behalf of Industrial Gasket, Inc. d/b/a International Group (IG), within FTZ 106 in Mustang, Oklahoma (FTZ Docket 37-2008, filed 5/28/2008);

Whereas, notice inviting public comment has been given in the Federal Register (73 FR 31811-31812, 6/4/2008) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application for manufacturing authority under zone procedures within FTZ 106 on behalf of IG, as described in the application and Federal Register notice, is approved, subject to the FTZ Act and the Board's regulations, including Section 400.28.

Signed at Washington, DC, this 26th day of June 2009.

Ronald K. Lorentzen,
Acting Assistant Secretary of Commerce for Import Administration, Alternate Chairman, Foreign-Trade Zones Board.
Attest:
Andrew McGilvray,
Executive Secretary.

[FR Doc. E9-16280 Filed 7-8-09; 8:45 am]

BILLING CODE 3510-DS-S